DEPARTMENT OF COMMERCE

National Oceanic and Atmospheric Administration

[0648-XE710]

Taking and Importing Marine Mammals; Taking Marine Mammals Incidental to Space Vehicle Launch Operations

AGENCY: National Marine Fisheries Service (NMFS), National Oceanic and Atmospheric Administration (NOAA), Commerce.

ACTION: Notice; receipt of application for letters of authorization; request for comments and information.

SUMMARY: NMFS has received a request from the Alaska Aerospace Corporation (AAC) for authorization to take marine mammals incidental to conducting space vehicle launch operations over the course of five years, from February 1, 2017 through January 31, 2022. Pursuant to regulations implementing the Marine Mammal Protection Act (MMPA), NMFS is announcing receipt of the AAC's request for the development and implementation of regulations governing the incidental taking of marine mammals and inviting information, suggestions, and comments on the AAC's application and request.

DATES: Comments and information must be received no later than October 27, 2016.

ADDRESSES: Comments on the application should be addressed to Jolie Harrison, Chief, Permits and Conservation Division, Office of Protected Resources, National Marine Fisheries Service. 1315 East-West Highway, Silver Spring, MD 20910-3225 and electronic comments should be sent ITP.Egger@noaa.gov.

Instructions: NMFS is not responsible for comments sent by any other method, to any other address or individual, or received after the end of the comment period. Comments sent via email, including all attachments, must not exceed a 25-megabyte file size. Attachments to electronic comments will be accepted in Microsoft Word or Excel or Adobe PDF file formats only. All comments received are a part of the public record and will generally be posted to http://www.nmfs.noaa.gov/pr/permits/research.htm without change. All personal identifying information (for example, name, address, etc.) voluntarily submitted by the commenter may be publicly accessible. Do not submit confidential business information or otherwise sensitive or protected information.

FOR FURTHER INFORMATION CONTACT: Stephanie Egger, Office of Protected Resources, NMFS, (301) 427-8401.

SUPPLEMENTARY INFORMATION:

Availability

An electronic copy of the AAC's application may be obtained online at: www.nmfs.noaa.gov/pr/permits/incidental/research.htm. In case of problems accessing the document, please call the contact listed above.

Background

Section 101(a)(5)(A) of the MMPA (16 U.S.C. 1361 et seq.) directs the Secretary of Commerce to allow, upon request, the incidental, but not intentional, taking of small numbers of marine mammals by U.S. citizens who engage in a specified activity (other than commercial fishing), if certain findings are made and regulations are issued.

Incidental taking shall be allowed if NMFS finds that the taking will have a negligible impact on the species or stock(s) affected and will not have an unmitigable adverse impact on the availability of the species or stock(s) for taking for subsistence uses, and if the permissible methods of taking and requirements pertaining to the mitigation, monitoring and reporting of such taking are set forth. NMFS has defined “negligible impact” in 50 CFR 216.103 as “. . . an impact resulting from the specified activity that cannot be reasonably expected to, and is not reasonably likely to, adversely affect the species or stock through effects on annual rates of recruitment or survival.”

Except with respect to certain activities not pertinent here, the MMPA defines “harassment” as any act of pursuit, torment, or annoyance which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On September 14, 2016, NMFS received an adequate and complete application from the AAC requesting authorization for the take of marine mammals incidental to space vehicle and missile launch activities from the Pacific Spaceport Complex Alaska (PSCA) for a period of five years. Space vehicle and missile launch activities have the potential to result in take of pinnipeds on nearby haul outs. Therefore, AAC requests authorization to take marine mammals that may occur in these areas, including Steller sea lions (Eumatopias jubatus) and harbor seals (Phoca vitulina richardii).

Specified Activities

AAC is proposing to launch small to medium space launch vehicles from the PSCA. PSCA may also launch a number of smaller missile systems, such as tactical or target vehicles. AAC anticipates the ability to accommodate nine launches per year.

Information Solicited

Interested persons may submit information, suggestions, and comments concerning AAC's request (see ADDRESSES). Comments should be supported by data or literature citations as appropriate. We will consider all relevant information, suggestions, and comments related to the request during the development of proposed regulations governing the incidental taking of marine mammals by AAC, if appropriate.

Dated: September 20, 2016.
Donna S. Wieting,
Director, Office of Protected Resources, National Marine Fisheries Service.

[FR Doc. 2016-23257 Filed 9-26-16; 8:45 am]

BILLING CODE 3510-22-P